OFFICE OF THE DIRECTOR OF NATIONAL INTELLIGENCE

Agency Information Collection Activities

AGENCY: Office of the Director of National Intelligence (ODNI).

ACTION: Notice.

SUMMARY: The Whistleblower Protection Enhancement Act of 2012 (WPEA) was signed into law on 27 November 2012 (Pub. L. 112-199). The law strengthens the protections for federal employees who disclose evidence of waste, fraud, or abuse. In addition, the WPEA modifies rules on the use of nondisclosure policies, forms, or agreements by government agencies. Agencies are required to update any nondisclosure policies, forms, or agreements to conform to the new requirements in the WPEA. Accordingly, ODNI is hereby giving public notice that Section 10 of Standard Form 312: Classified Information Nondisclosure Agreement, is being updated as described in the Supplementary Information section of this notice.

FOR FURTHER INFORMATION CONTACT: Requests for additional information should be directed to Ms. Jennifer Hudson, Office of the Chief Information Officer, Information Management Division, Office of the Director of National Intelligence, Washington, DC 20511.

SUPPLEMENTARY INFORMATION: Section 10 of Standard Form 312 is being updated to include the following statutory changes required pursuant to § 115 of Public Law 112-199 (5 U.S.C. 2302):

1. “These provisions are consistent with and do not supersede, conflict with, or otherwise alter the employee obligations, rights, or liabilities created by existing statute or Executive order relating to (1) Classified information, (2) communications to Congress, (3) the reporting to an Inspector General of a After “the Intelligence Identities Protection Act of 1982 (50 U.S.C. 421 et seq.) (governing disclosures that could expose confidential Government violation of any law, rule, or regulation, or mismanagement, a gross waste of funds, an abuse of authority, or a substantial and specific danger to public health or safety, or (4) any other whistleblower protection. The definitions, requirements, obligations, rights, sanctions, and liabilities created by controlling Executive orders and statutory provisions are incorporated into this agreement and are controlling.”

2. The language in section 10 of the current Standard Form 312 will now appear in new section 11.

Abstract: The National Security Act of 1947, as amended by the Intelligence Reform and Terrorism Prevention Act of 2004, and Executive Order13467, “Reforming Processes Related to Suitability for Government Employment, Fitness for Contractor Employees, and Eligibility for Access to Classified National Security Information,” authorizes the DNI as the Security Executive Agent to develop standard forms that promote uniformity and consistency in the implementation of the Government's security clearance program.

Dated: August 19, 2013.
Mark W. Ewing,
Chief Management Officer.

[FR Doc. 2013-20992 Filed 8-27-13; 8:45 am]

BILLING CODE 3910-A79-P-P